DEPARTMENT OF COMMERCE

Foreign-Trade Zones Board

Order No. 1397

Expansion of Foreign-Trade Zone 163, Ponce, Puerto Rico, Area

Pursuant to its authority under the Foreign-Trade Zones Act of June 18, 1934, as amended (19 U.S.C. 81a-81u), the Foreign-Trade Zones Board (the Board) adopts the following Order:

Whereas, Codezol, C.D., the grantee of Foreign-Trade Zone 163, submitted an application to the Board for authority to remove the time restriction on Site 4 (Guayama) and to add two new sites (342 acres) at Merecedita Industrial Park (Site 5), and Coto Laurel Industrial Park (Site 6), in the Ponce, Puerto Rico, area, adjacent to the Ponce Customs port of entry (FTZ Docket 39-2004; filed 8/25/04);

Whereas, notice inviting public comment was given in the Federal Register (69 FR 53886, 9/3/04), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 163 and to remove the time restriction on Site 4 is approved, subject to the Act and the Board's regulations, including Section 400.28.

Signed at Washington, DC, this 9th day of June, 2005.

Joseph A. Spetrini,
Acting Assistant Secretary of Commerce, for Import Administration, Alternate Chairman, Foreign-Trade Zones Board
Attest:
Dennis Puccinelli,
Executive Secretary.

[FR Doc. 05-12369 Filed 6-21-05; 8:45 am]

BILLING CODE 3510-DS-S